DEPARTMENT OF ENERGY

Federal Energy Regulatory Commission

[Docket No. RP02-447-001]

Southwest Gas Storage Company; Notice of Compliance filing

October 30, 2002.

Take notice that on October 28, 2002, Southwest Gas Storage Company (Southwest) tendered for filing as part of its FERC Gas Tariff, First Revised Volume No. 1, the following revised tariff sheet to become effective October 1, 2002:

Sub 2nd Rev Second Revised Sheet No. 147

Southwest states that this filing is being made to comply with the Commission's Letter Order dated September 26, 2002 in Docket No. RP02-447-000 which requires Southwest to remove Standard 2.3.30 from Section 17.5 of the General Terms and Conditions of its tariff.

Southwest states that copies of this filing are being served on all jurisdictional customers, interested state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The Commission strongly encourages electronic filings. See, 18 CFR 385.2001(a)(1)(iii) and the instructions on the Commission's Web site under the “e-Filing” link.

Linwood A. Watson, Jr.,
Deputy Secretary.

[FR Doc. 02-28177 Filed 11-4-02; 8:45 am]

BILLING CODE 6717-01-P